DEPARTMENT OF ENERGY

Federal Energy Regulatory Commission

[Docket No. IC17-2-000]

Commission Information Collection Activities (FERC-549D & FERC-733); Comment Request

AGENCY: Federal Energy Regulatory Commission, DOE.

ACTION: Comment request.

SUMMARY: In compliance with the requirements of the Paperwork Reduction Act of 1995, the Federal Energy Regulatory Commission (Commission or FERC) is submitting its information collection [FERC-549D (Quarterly Transportation and Storage Report for Interstate Gas and Hinshaw Pipelines) and FERC-733 (Demand Response/Time-Based Rate Programs and Advanced Metering)] to the Office of Management and Budget (OMB) for review of the information collection requirements. Any interested person may file comments directly with OMB and should address a copy of those comments to the Commission as explained below. The Commission previously issued a Notice in the Federal Register (81 FR 91160, 12/16/2016) requesting public comments. The Commission received no comments on neither the FERC-549D nor the FERC-733 and is making this notation in its submittal to OMB.

DATES: Comments on the collection of information are due by March 27, 2017.

ADDRESSES: Comments filed with OMB, identified by the OMB Control No. 1902-0253 (FERC-549D) and 1902-0271 (FERC-733) should be sent via email to the Office of Information and Regulatory Affairs: oira_submission@omb.gov. Attention: Federal Energy Regulatory Commission Desk Officer. The Desk Officer may also be reached via telephone at 202-395-4718.

A copy of the comments should also be sent to the Commission, in Docket No. IC17-2-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-549D, [Quarterly Transportation and Storage Report for Interstate Gas and Hinshaw Pipelines]

OMB Control No.: 1902-0253.

Abstract: The reporting requirements under FERC-549D are required to carry out the Commission's policies in accordance with the general authority in Sections 1(c) of the Natural Gas Act (NGA) ¹ and Sections 311 of the Natural Gas Policy Act of 1978 (NGPA).² This collection promotes transparency by collecting and making available intrastate and Hinshaw pipeline transactional information. The Commission collects the data upon a standardized form with all requirements outlined in 18 CFR 284.126.

¹ 15 U.S.C. 717-817-w.

² 15 U.S.C. 3301-3432.

The FERC Form 549D collects the following information:

• Full legal name and identification number of the shipper receiving service;

• Type of service performed for each transaction;

• The rate charged under each transaction;

• The primary receipt and delivery points for the transaction, specifying the rate schedule/name of service and docket were approved;

• The quantity of natural gas the shipper is entitled to transport, store, and deliver for each transaction;

• The term of the transaction, specifying the beginning and ending month and year of current agreement;

• Total volumes transported, stored, injected or withdrawn for the shipper; and

• Annual revenues received for each shipper, excluding revenues from storage services.

Filers submit the Form-549D on a quarterly basis.

Access to the FERC-549D Information Collection Materials: A copy of the current form and related materials can be found at http://www.ferc.gov/docs-filing/forms.asp#549d, but will not be included in the Federal Register. The Commission will not publish these materials in the Federal Register.

Type of Respondent: Intrastate natural gas and Hinshaw pipelines.

Estimate of Annual Burden: The Commission estimates the annual public reporting burden for the information collection as:

FERC-549D
[Quarterly Transportation and Storage Report for Interstate Natural Gas and Hinshaw Pipelines]
| Number of respondents | Annual number of responses per respondent | Total number of responses | Average burden hours & cost per response ³ | Total annual burden hours & total annual cost | Cost per respondent ($)
| (1) | (2) | (1) * (2) = (3) | (4) | (3) * (4) = (5) | (5) ÷ (1)
PDF filings | 76 | 4 | 304 | 12.5 $1,048 | 3,800 $318,516 | $4,191
XML filings | 33 | 4 | 132 | 10 $832 | 1,320 $110,642 | $3,352
Total |  | 436 |  | 5,120 $429,158 |

FERC-733, [Demand Response/Time-Based Rate Programs and Advanced Metering]

³ The hourly wage figure is $83.82/hour. This cost represents the average cost of four career fields: Legal ($129.12/hour), Accountants ($53.86/hour), Management Analyst ($60.53/hour), and Computer and Information ($91.76/hour); this cost also includes benefit costs within the hourly estimates. These figures were compiled using Bureau of Labor Statistics data that were specific to each occupational category: http://bls.gov/oes/current/naics2_22.htm.

Note: The Commission previously issued a 60-day Notice in the Federal Register (81 FR 91160, 12/16/2016) requesting public comments. In that 60-day notice, the burden estimate for FERC-733 information collection was incorrect. The burden estimate below provides the corrected numbers. Footnotes 6, 7, 8, 9, and 10 illustrate the previous figures (presented in the 60-day notice) and the corrected figures. FERC did not receive any comments on this or any other issue concerning the FERC-733 information collection.

OMB Control No.: 1902-0271.

Abstract: Section 1252(e)(3) of the Energy Policy Act of 2005,⁴ requires the Federal Energy Regulatory Commission (FERC or Commission) to prepare and publish an annual report, by appropriate region, that assesses demand response resources, including those available from all consumer classes. Specifically, EPAct 2005 Section 1252(e)(3) requires that the Commission identify and review:

⁴ Public Law 109-58, 1252(e)(3), 119 Stat. 594, 966 (2005) (EPAct 2005).

(A) saturation and penetration rate of advanced meters and communications technologies, devices and systems;

(B) existing demand response programs and time-based rate programs;

(C) the annual resource contribution of demand resources;

(D) the potential for demand response as a quantifiable, reliable resource for regional planning purposes;

(E) steps taken to ensure that, in regional transmission planning and operations, demand resources are provided equitable treatment as a quantifiable, reliable resource relative to the resource obligations of any load-serving entity, transmission provider, or transmitting party; and

(F) regulatory barriers to improved customer participation in demand response, peak reduction and critical period pricing programs.

Type of Respondent: Persons interested in the above topics.

Estimate of Annual Burden: The Commission estimates the annual public reporting burden for the information collection as:

Number of respondents | Annual number of responses per respondent | Total number of responses | Average burden hours & cost per response ⁵ | Total annual burden hours & total annual cost | Cost per respondent ($)
(1) | (2) | (1) * (2) = (3) | (4) | (3) * (4) = (5) | (5) ÷ (1)
3,400 | 1 | 3,400 | ⁶ 3.5 ⁷ $260.75 | ⁸ 11,900 ⁹ $886,550 | ¹⁰ $260.75

Dated: February 17, 2017.
Nathaniel J. Davis, Sr.,
Deputy Secretary.

⁵ The estimates for cost per response are derived using the 2016 FERC average salary plus benefits of $154,647/year (or $74.50/hour). Commission staff finds that the work done for this information collection is typically done by wage categories similar to those at FERC.

⁶ This figure was incorrectly presented as 260.75 hours in the 60-day notice pertaining to the FERC-733 renewal. It is corrected to 3.5 hours in this notice.

⁷ This figure was incorrectly presented as $19,426 in the 60-day notice pertaining to the FERC-733 renewal. It is corrected to $260.75 in this notice.

⁸ This figure was incorrectly presented as 886,550 hours in the 60-day notice pertaining to the FERC-733 renewal. It is corrected to 11,900 hours in this notice.

⁹ This figure was incorrectly presented as $66,047,975 in the 60-day notice pertaining to the FERC-733 renewal. It is corrected to $886,550 in this notice.

¹⁰ This figure was incorrectly presented as $19,436 in the 60-day notice pertaining to the FERC-733 renewal. It is corrected to $260.75 in this notice.

[FR Doc. 2017-03590 Filed 2-23-17; 8:45 am]

BILLING CODE 6717-01-P